DEPARTMENT OF THE INTERIOR

Bureau of Land Management

[NV-912-1640-PH; 08-08807; TAS: 14X1109]

Notice Public Meetings: Sierra Front Northwestern Basin Resource Advisory Council, Nevada

AGENCY: Bureau of Land Management, Interior.

ACTION: Announcement of meetings.

SUMMARY: In accordance with the Federal Land Policy and Management Act (FLPMA) and the Federal Advisory Committee Act of 1972 (FACA), the U.S. Department of the Interior, Bureau of Land Management (BLM) Sierra Front-Northwestern Great Basin Resource Advisory Council (RAC), will meet as indicated below.

DATES AND TIMES: The RAC will meet twice in fiscal year 2008: April 29-30 at the BLM Carson City Field Office, 5665 Morgan Mill Road, Carson City, Nevada; and July 15-16 at Bruno's Country Club Café, 445 Main Street, Gerlach, Nevada, with a field trip to the Black Rock-High Rock National Conservation Area. All meetings are open to the public. Meeting times are 9 a.m. to 4 p.m. and will include a general public comment period, where the public may submit oral or written comments to the RAC. Each public comment period will begin at approximately 3 p.m. unless otherwise listed in each specific, final meeting agenda.

FOR FURTHER INFORMATION CONTACT: Mark Struble, (775) 885-6107, E-mail: mark_struble@nv.blm.gov.

SUPPLEMENTARY INFORMATION: The 15-member Council advises the Secretary of the Interior, through the BLM, on a variety of planning and management issues associated with public land management in Nevada.

Topics for discussion will include, but are not limited to:

April 29-30, (Carson City)—SNPLMA Round 9 (review of R9 proposals and RAC-hosted public comment time for development of tri-RAC recommendations to the Executive Committee), Pine Nut Mountains Resource Management Plan Amendment, Sand Mountain implementation of Conservation Strategy, grazing for fuels management, wind and geothermal energy proposals, wild horse and burro issues.

July 15-16, (Gerlach)—Winnemucca Resource Management Plan update, Black Rock National Conservation Area and wilderness areas planning (field tour), drought issues related to springs/water sources for wild horses, livestock and wildlife (field tour), tour of Friends of Black Rock facility in Gerlach, overnight at Soldier Meadows.

Managers' reports of field office activities will be given at each meeting. The council may raise other topics at either of the two planned meetings. Final agendas with any additions/corrections to agenda topics, locations, field trips and meeting times, will be posted on the BLM Web site at: http://www.blm.gov/nv/st/en/fo/carson_city_field.html, and sent to the media at least 14 days before each meeting. Individuals who need special assistance such as sign language interpretation or other reasonable accommodations, or who wish to receive a copy of each agenda, should contact Mark Struble no later than 10 days prior to each meeting.

Dated: January 7, 2008.
Don Hicks,
Carson City Field Office Manager.

[FR Doc. E8-346 Filed 1-10-08; 8:45 am]

BILLING CODE 4310-HC-P